DEPARTMENT OF TRANSPORTATION

Federal Highway Administration

Supplemental Final Environmental Impact Statement: Clark County, Indiana, and Jefferson County, KY

AGENCY: Federal Highway Administration (FHWA), DOT.

ACTION: Notice of intent.

SUMMARY: The FHWA is issuing this notice to advise the public that a supplemental environmental impact statement (SEIS) will be prepared for the Louisville-Southern Indiana Ohio River Bridges (Project) in Clark County, Indiana and Jefferson County, Kentucky.

FOR FURTHER INFORMATION CONTACT: Mr. Duane Thomas, Project Manager, Federal Highway Administration, John C. Watts Federal Building 330 West Broadway Frankfort, KY 40601, Telephone: (502) 223-6720, e-mail: Duane.Thomas@dot.gov or Mr. Gary Valentine, Project Manager, Kentucky Transportation Cabinet, 8310 Westport Road, Louisville, KY 40242, Telephone: (502) 210-5453, e-mail: Gary.Valentine@ky.gov or Mr. Paul Boone, Project Manager, Indiana Department of Transportation, 5701 Highway U.S. 31, Clarksville, IN 47129, Telephone: (812) 282-7493 ext.224, e-mail: PBoone@indot.in.gov.

SUPPLEMENTARY INFORMATION: Notice is hereby given that FHWA, in cooperation with the Project Sponsors, the Indiana Department of Transportation and the Kentucky Transportation Cabinet, will prepare an SEIS to examine the impacts of a proposal by the Project Sponsors to modify the Selected Alternative. The SEIS will be prepared in accordance with all applicable requirements of Section 6002 of SAFETEA-LU, codified at 23 U.S.C. 139. The proposed modification includes revising several design elements and using innovative financing sources, including collecting tolls.

A Final Environmental Impact Statement (FEIS) and Section 4(f) Evaluation was issued for the Project on April 8, 2003. The FEIS/Section 4(f) Evaluation examined four major project alternatives and a number of sub-alternatives in detail. On September 6, 2003, FHWA issued a Record of Decision (ROD) identifying the Selected Alternative and the reasons for its selection. The Selected Alternative consists of a new northbound I-65 bridge just east of the existing Kennedy Bridge (I-65); an East End bridge approximately eight miles from downtown Louisville connecting the Gene Snyder Freeway (KY 841) to the Lee Hamilton Highway (IN 265); and an adjacent rebuild of the Kennedy Interchange where I-64, I-65 and I-71 converge in downtown Louisville. The FEIS/Section 4(f) Evaluation and ROD are available for review by contacting the FHWA or any of the Project Sponsors at the addresses provided above. In addition, the ROD can be viewed electronically and/or downloaded from the Project Web site at http://www.kyinbridges.com/project/history.aspx.

Since the issuance of the ROD, the Project Sponsors have taken several major steps to advance the Project towards construction: a general engineering consultant was retained; a bridge type selection process was conducted; engineering design and right-of-way acquisition activities began; the Louisville and Southern Indiana Bridges Authority was created for the development, design, financing, construction, operation and oversight of the Project, and an update to the major project finance plan was completed. The Project Sponsors now propose to evaluate the environmental impacts of revising several elements of the Selected Alternative. Although the modifications are expected to reduce the environmental impacts of the Project, an SEIS is being prepared because the changes have the potential to result in significant environmental impacts that were not evaluated in the FEIS. In addition to updating the FEIS/Section 4(f) Evaluation, FHWA expects the SEIS to examine design changes and their potential impacts such as:

(1) Rebuilding the Kennedy Interchange within the existing location rather than reconstructing it adjacent to the existing location;

(2) Reducing the East End bridge, roadway and tunnel from six lanes to four lanes, with a possible option to add two lanes later if future traffic demand warrants;

(3) Removing the proposed pedestrian and bike path from the design for the new northbound I-65 bridge, as a result of a separate proposal to meet the same need by constructing a pedestrian walkway and bike path on the Big Four Bridge;

(4) Collecting tolls linked to the Project's improvements in cross-river mobility from the reconfigured Kennedy Bridge and the new northbound I-65 bridge in downtown and from the new East End bridge, pursuant to 23 U.S.C. 129 or other applicable law.

The SEIS will build upon and incorporate the work already completed as part of the project development process. Specifically, the SEIS will consider whether the Modified Selected Alternative would increase or decrease the expected direct, secondary, cumulative and temporary impacts to the environment within the Project Area, including social and economic concerns, agricultural impacts, historic and archaeological resource impacts, air quality impacts, noise impacts, vibration impacts, natural resources impacts, water resources impacts, floodplain impacts, wetland impacts, visual and aesthetic impacts, and hazardous substances concerns. The SEIS will address the requirements of all environmental laws, regulations and Executive Orders that would be applicable to the FHWA's approval of a Modified Selected Alternative.

The SEIS study process will include an invitation letter sent to potential Cooperating Agencies, Participating Agencies, and Section 106 Consulting Parties inviting the agencies to officially take part in the SEIS study, encouraging agency comments and suggestions concerning the SEIS, and further defining the roles of agencies in the study. One or more public workshops will be held to solicit public input into the development of the Modified Selected Alternative. In addition, a formal comment period for the public and agencies will be provided following the publication of the draft SEIS. The comments received will be responded to in the final SEIS. Notices of availability for the draft and final SEISs will be provided through direct mail, the Federal Register and other media. Notification also will be sent to Federal, State, local agencies, persons, and organizations that submit comments or questions. Precise schedules and locations for the public workshops will be announced in the local news media and on the Project Web site, http://www.kyinbridges.com/. Interested individuals and organizations may request to be included on the mailing list for the distribution of announcements and associated information.

Other Approvals for Federal Permits: The following approvals for Federal permits are anticipated to be required: The Navigational Permit Application from the U.S. Coast Guard and the Section 404 Permit from the Army Corps of Engineers. Additionally, Section 401 Permits may be required from the Kentucky Energy and Environment Cabinet and the Indiana Department of Environmental Management. Other State and local permits may also be required.

Comments or questions concerning this Notice should be directed to the FHWA and to the Project Sponsors at the addresses provided above.

(Catalog of Federal Domestic Assistance Program Number 20.205, Highway Research, Planning and Construction. The regulations implementing Executive Order 12372 regarding intergovernmental consultation on Federal programs and activities apply to this program.)

Issued on: February 9, 2011.
Jose Sepulveda,
Division Administrator, Federal Highway Administration, Frankfort, Kentucky.

[FR Doc. 2011-3404 Filed 2-14-11; 8:45 am]

BILLING CODE 4910-22-P